DEPARTMENT OF HEALTH AND HUMAN SERVICES

National Institutes of Health

Center for Scientific Review; Amended Notice of Meeting

Notice is hereby given of a change in the meeting of the Integrative, Functional and Cognitive Neuroscience 5, February 18, 2003, 8:30 a.m. to February 19, 2003, 10 a.m., which was published in the Federal Register on January 31, 2003, 68 FR 5032-5035.

The meeting will be one day only February 18, 2003, from 8 a.m. to 6 p.m. The location remains the same. The meeting is closed to the public.

Dated: February 11, 2003.
LaVerne Y. Stringfield,
Director, Office of Federal Advisory Committee Policy.

[FR Doc. 03-3896 Filed 2-18-03; 8:45 am]

BILLING CODE 4140-01-M